SECURITIES AND EXCHANGE COMMISSION

[File No. 500-1]

In the Matter of Basin Water, Inc.; Order of Suspension of Trading

June 30, 2011.

It appears to the Securities and Exchange Commission that there is a lack of current and accurate information concerning the securities of Basin Water, Inc. (“Basin”) because of questions regarding the accuracy of assertions by Basin, and by others, in periodic filings with the Commission concerning, among other things, the company's current financial condition because it has not filed any periodic reports since the period ended March 31, 2009.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on June 30, 2011 through 11:59 p.m. EDT, on July 14, 2011.

By the Commission.
Jill M. Peterson,
Assistant Secretary.

[FR Doc. 2011-16841 Filed 6-30-11; 11:15 am]

BILLING CODE 8011-01-P